DEPARTMENT OF COMMERCE

National Oceanic and Atmospheric Administration

[I.D. 040600C]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Groundfish Oversight Committee and Groundfish Industry Advisory Panel in May, 2000. Recommendations from the committee and the advisors will be brought to the full Council for formal consideration and action, if appropriate.

DATES: The meeting will be held May 1 and 2, 2000, at 9:30 a.m.

ADDRESSES: The meeting will be held at the Sheraton Colonial Hotel, One Audubon Road, Wakefield, MA 01880; telephone: (781) 245-9300.

FOR FURTHER INFORMATION CONTACT: Paul J. Howard, Executive Director, New England Fishery Management Council (978) 465-0492.

SUPPLEMENTARY INFORMATION: The Committee and Advisors will conduct a joint meeting to continue development of management options for Amendment 13 to the Northeast Multispecies Fishery Management Plan. If not completed at meetings held in April, the Committee and Advisors will continue their review of current overfishing definitions and control rules for the multispecies complex, examine the assumptions and policy decisions in those rules, and develop recommendations for the biological goals of the Amendment. The Committee and Advisors will also organize into subcommittees that will be tasked to develop specific management options for consideration by the full Committee. These tasks will be based on broad approaches to management selected by the Committee. The subcommittees may meet individually during the meeting to begin work on these management options. The discussions at the subcommittee level will be reported back to the Committee at this meeting or at future meetings.

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: April 7, 2000.
Richard W. Surdi,
Acting Director, Office of Sustainable Fisheries, National Marine Fisheries Service.

[FR Doc. 00-9565 Filed 4-14-00; 8:45 am]

BILLING CODE 3510-22-F